DEPARTMENT OF JUSTICE

Office of Justice Programs

Agency Information Collection Activities: Proposed Collection; Comments Requested

ACTION: 30-day notice of information collection under review: extension of a currently approved collection; National Crime Victimization Survey (NCVS).

The Department of Justice (DOJ), Office of Justice Programs, Bureau of Justice Statistics has submitted the following information collection request for review and clearance in accordance with the Paperwork Reduction Act of 1995. Office of Management and Budget (OMB) approval is being sought for the information collection listed below. The proposed information collection was previously published in the Federal Register, Volume 68, Number 58, page 14698, on March 21, 2003, allowing 60 days for public comment.

The purpose of this notice is to allow for an additional 30 days for public comment until July 10, 2003. This process is conducted in accordance with 5 CFR 1320.10.

Written comments and/or suggestions regarding the items contained in this notice, especially the estimated public burden and associated response time, should be directed to The Office of Management and Budget, Office of Information and Regulatory Affairs, Attention Department of Justice Desk Officer, Washington, DC 20530, or facsimile (202) 395-5806.

Written comments and suggestions from the public and affected agencies concerning the proposed collection of information are encouraged. Your comments should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the accuracy, utility, and clarity of the information to be collected; and

(4) Minimize the burden of the collection of information on those who are to respond, (including through the use of appropriate automated, electronic, mechanical, or other technological collection techniques or other forms of information technology, e.g., permitting electronic submission of responses).

Overview of this information:

(1) Type of information collection: Extension of a Currently Approved Collection.

(2) The title of the form/collection: National Crime Victimization Survey.

(3) The agency form number, if any, and the applicable component of the department sponsoring the collection: Form Number: NCVS-1, NCVS-1A, NCVS-2, NCVS-500, NCVS-7, NCVS-572(L), NCVS-573(L), NCVS-574(L), NCVS-541, NCVS-545, NCVS-1SP, and NCVS-2SP.

Affected public who will be asked or required to respond, as well as a brief abstract: Primary: Individuals or Households. Other: None. The National Crime Victimization Survey collects, analyzes, publishes, and disseminates statistics on the amount and type of crime committed against households and individuals in the United States. Respondents include persons age 12 or older living in about 45,650 interviewed households.

(5) An estimate of the total number of respondents is 110,100 and the amount of time estimated for an average respondent to respond/reply: It will take the average interviewed respondent an estimated 23 minutes to respond, the average non-interviewed respondent an estimated 7 minutes to respond, the estimated average follow-up interview is 12 minutes, and the estimated average follow-up for a non-interview is 1 minute.

(6) An estimate of the total public burden (in hours) associated with the collection is 74,010 hours annual burden.

If additional information is required contact: Brenda E. Dyer, Department Deputy Clearance Officer, Information Management and Security Staff, Justice Management Division, United States Department of Justice, 601 D Street NW., Patrick Henry Building, Suite 1600, NW., Washington, DC 20530.

Dated: June 4, 2003.
Brenda E. Dyer,
Deputy Clearance Officer, United States Department of Justice.

[FR Doc. 03-14533 Filed 6-9-03; 8:45 am]

BILLING CODE 4410-18-M